DEPARTMENT OF HEALTH AND HUMAN SERVICES

Centers for Medicare & Medicaid Services

[CMS-1269-N4]

Medicare Program; Emergency Medical Treatment and Labor Act (EMTALA) Technical Advisory Group (TAG) Meeting—June 15, 2005 Through June 17, 2005

AGENCY: Centers for Medicare & Medicaid Services (CMS), HHS.

ACTION: Notice of meeting.

SUMMARY: In accordance with section 10(a) of the Federal Advisory Committee Act (FACA) (5 U.S.C. Appendix 2), this notice announces the second meeting of the Emergency Medical Treatment and Labor Act (EMTALA) Technical Advisory Group (TAG). The purpose of the EMTALA TAG is to review regulations affecting hospital and physician responsibilities under EMTALA to individuals who come to a hospital seeking examination or treatment for medical conditions. The primary purpose of the second meeting is to enable the EMTALA TAG to hear testimony and consider written responses from medical societies and other organizations on specific issues considered by the TAG at its initial meeting. However, the public is permitted to attend this meeting and, to the extent that time permits and at the discretion of the Chairperson, the EMTALA TAG may hear comments from the floor.

DATES: Meeting Dates: The meetings of the EMTALA TAG announced in this notice are as follows:

Wednesday, June 15, 2005, 11 a.m. to 5 p.m.

Thursday, June 16, 2005 from 9 a.m. to 5 p.m.

Friday, June 17, 2005 from 9 a.m. to 12 noon.

Registration and Deadline: You may register by sending an e-mail to EMTALATAG@cms.hhs.gov, sending a fax to the attention of Ronda Allen at fax number (410) 786-0681 or (410) 786-0169, or calling (410) 786-4548. To attend this meeting, all individuals must register by June 8, 2005.

Comment Deadline: Comments to be distributed to the EMTALA TAG may be submitted in writing up to three business days following the meeting. If anyone wishes to submit written comments, Beverly J. Parker must receive the comments by 5 p.m., June 22, 2005 at the address listed below.

Special Accommodations: Individuals requiring sign-language interpretation or other special accommodations should send a request for these services to Beverley J. Parker by 5 p.m., June 1, 2005 at the address listed below.

ADDRESSES: Meeting Address: The EMTALA TAG meeting will be held in Room 705A at the Hubert H. Humphrey Building, 200 Independence Avenue, SW., Washington, DC 20201.

Mailing and Email Addresses for Inquiries or Comments: Inquiries or comments regarding this meeting may be sent to—Beverly J. Parker, Division of Acute Care, Centers for Medicare & Medicaid Services, Mail Stop C4-08-06, 7500 Security Boulevard, Baltimore, MD 21244-1850. Inquiries or comments may also be emailed to EMTALATAG@cms.hhs.gov.

Web Site Address for Additional Information: For additional information on the EMTALA TAG meeting agenda topics, updated activities, and to obtain Charter copies, please search our Internet Web site at: http://www.cms.hhs.gov/faca/emtalatag/emtalatagpage.asp.

FOR FURTHER INFORMATION CONTACT: Beverly J. Parker at (410) 786-5320 or George Morey at (410) 786-4653. Press inquiries are handled through the CMS Press Office at (202) 690-6145.

SUPPLEMENTARY INFORMATION:

I. Background

Sections 1866(a)(1)(I), 1866(a)(1)(N), and 1867 of the Social Security Act (the Act) impose specific obligations on Medicare-participating hospitals that offer emergency services. These obligations concern individuals who come to a hospital emergency department and request or have a request made on their behalf for examination or treatment for a medical condition. EMTALA applies to all these individuals, regardless of whether or not they are beneficiaries of any program under the Act. Section 1867 of the Act sets forth requirements for medical screening examinations for emergency medical conditions, as well as necessary stabilizing treatment or appropriate transfer.

Regulations implementing the EMTALA legislation are set forth at 42 CFR 489.20(l), (m), (q) and (r)(1), (r)(2), (r)(3), and 489.24. Section 945 of the Medicare Prescription Drug, Improvement, and Modernization Act of 2003 (MMA) (Pub. L. 108-173), requires that the Secretary establish a Technical Advisory Group (TAG) for advice concerning issues related to EMTALA regulations and implementation.

Section 945 of the MMA specifies that the EMTALA TAG—

• Review the EMTALA regulations;

• Provide advice and recommendations to the Secretary concerning these regulations and their application to hospitals and physicians;

• Solicit comments and recommendations from hospitals, physicians, and the public regarding implementation of these regulations; and

• Disseminate information concerning the application of these regulations to hospitals, physicians, and the public.

The EMTALA TAG, as chartered under the legal authority of section 945 of the MMA, is also governed by the provisions of the Federal Advisory Committee Act (FACA) (5 U.S.C. Appendix 2) for the selection of members and the conduct of all meetings.

In the May 28, 2004 Federal Register (69 FR 30654), we specified the statutory requirements regarding the charter, general responsibilities, and structure of the EMTALA TAG. That notice also solicited nominations for members based on the statutory requirements for the EMTALA TAG. We received no nominations. In the August 27, 2004 Federal Register (69 FR 52699), we again solicited nominations for members in two categories (patient representatives and a State survey agency representative.) In the March 15, 2005 Federal Register (70 FR 12691), we announced the inaugural meeting of the EMTALA TAG and the membership selection.

II. Meeting Format, Agenda, and Suggested Presentation Topics

A. Meeting Format

The initial portion of the meeting (convening at 11 a.m. on June 15) will involve opening remarks and presentations by CMS staff, as requested by the TAG, followed by testimony from representatives of organizations invited to present information on specific topics. TAG members will have the opportunity to ask questions, prioritize the topics presented, and to conduct other necessary business. At the conclusion of each day's meeting, to the extent that time is available and at the discretion of the Chairperson, the public will be permitted a reasonable time to comment on issues being considered by the TAG.

B. Tentative Meeting Agenda

The tentative agenda for the EMTALA TAG meetings is as follows:

Day 1

Convenes at 11 a.m.

Welcome, call to order, and opening remarks

• Administrative and housekeeping issues

• CMS staff presentations on EMTALA

Presentations by invited organizations concerning:

• On-call/transfer issues

• Nurse-midwife responsibilities under EMTALA

• Public comment

Adjourns at 5 p.m.

Day 2

Convenes at 9 a.m.

Presentations by invited organizations (cont'd)

• Subcommittee reports

• Discussion of current business

• Public comment

Adjourns at 5 p.m.

Day 3

Convenes at 9 a.m.

Discussion of current business (cont'd)

Adjourns at 12 noon

III. Registration Instructions

While there is no registration fee, individuals must register to attend. As specified in the DATES section of this notice, individuals who wish to attend the meeting must register by June 8, 2005. You may register by sending an e-mail to EMTALATAG@cms.hhs.gov, sending a fax to the attention of Ronda Allen at fax number (410) 786-0681 or (410) 786-0169, or calling (410) 786-4548. All registration requests must include your name, name of the organization (if applicable), address, telephone and fax numbers, e-mail address (if available). You will receive a registration confirmation with instructions for your arrival at the Hubert H. Humphrey Building. If seating capacity has been reached, you will be notified that the meeting has reached capacity. All registrants are asked to arrive at the Humphrey Building no later than 20 minutes before the scheduled starting time of each meeting session they wish to attend.

IV. Security Information

Since this meeting will be held in a Federal government building, Federal security measures are applicable. As noted above, in planning your arrival time, we recommend allowing additional time to clear security. In order to gain access to the building, participants must bring a government-issued photo identification (for instance, a driver's license or passport) and a copy of your confirmation of registration for the meeting. Access may be denied to persons without proper identification.

All persons entering the building must pass through a metal detector. In addition, all items brought to the building, whether personal, or for the purpose of demonstration, or to support a presentation are subject to inspection. We cannot assume responsibility for coordinating the receipt, transfer, transport, storage, set-up, safety, or timely arrival of any personal belongings or items used for demonstration or to support a presentation.

Authority: Section 945 of the Medicare Prescription Drug, Improvement, and Modernization Act of 2003 (MMA).

(Catalog of Federal Domestic Assistance Program No. 93.773, Medicare—Hospital Insurance; and Program No. 93.774, Medicare—Supplementary Medical Insurance Program)

Dated: May 10, 2005.
Mark B. McClellan,
Administrator, Centers for Medicare & Medicaid Services.

[FR Doc. 05-9852 Filed 5-17-05; 8:45 am]

BILLING CODE 4120-01-P